DEPARTMENT OF HOMELAND SECURITY

United States Visitor and Immigrant Status Indicator Technology (US-VISIT)

AGENCY: US-VISIT, Department of Homeland Security.

ACTION: Submission for OMB review; comment request.

SUMMARY: The Department of Homeland Security, US-VISIT Program, has submitted the following information collection request (ICR) to the Office of Management and Budget (OMB) for review and clearance in accordance with the Paperwork Reduction Act of 1995 (Pub. L. 104-13, 44 U.S.C. Chapter 35). A copy of this ICR, with applicable supporting documentation, may be obtained by calling Steve Yonkers, 202-298-5200 (this is not a toll free number).

DATES: Comments are encouraged and will be accepted until March 6, 2007. This process is conducted in accordance with 5 CFR 1320.10.

ADDRESSES: Comments and questions about this Information Collection Request should be forwarded to the Office of Information and Regulatory Affairs, Attn: OMB Desk Officer for the Department of Homeland Security, Office of Management and Budget, Room 10235, Washington, DC 20503.

The Office of Management and Budget is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

FOR FURTHER INFORMATION CONTACT: Steve Yonkers, 202-298-5200 (this is not a toll free number).

Analysis

Agency: Department of Homeland Security, US-VISIT Program.

Title: US-VISIT Program.

OMB Number: 1600-0006.

Frequency: One-time collection.

Affected Public: Foreign visitors into the U.S.

Number of Respondents: 156,732,442.

Estimated Time Per Respondent: 15 seconds.

Total Burden Hours: 658,276 hours.

Total Burden Cost (capital/startup): $0.00.

Total Burden Cost (operating/maintaining): $0.00.

Description: The United States Visitor and Immigrant Status Indicator Technology (US-VISIT) is a program established by the Department of Homeland Security (DHS) to meet specific legislative mandates intended to strengthen border security, address critical needs in terms of providing decision makers with critical information, and demonstrate progress toward performance goals for national security, facilitation of trade and travel, and supporting immigration system improvements. US-VISIT represents a major achievement in creating an integrated border screening system that enhances our nation's security and efforts to reform our immigration and border management systems. Through US-VISIT, DHS is increasing our ability to manage the information collected about foreign visitors during the pre-entry, entry, status management, and departure processes, which allows us to conduct better analysis of that information, thereby strengthening the integrity of our immigration system.

Chase Garwood,
Chief Information Officer.

[FR Doc. 06-9987 Filed 12-29-06; 11:32 am]

BILLING CODE 4410-10-P